DEPARTMENT OF THE TREASURY

Submission for OMB Review;

Comment Request

November 8, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 19, 2002, to be assured of consideration.

Internal Revenue Service (IRS)

OMB Number: 1545-1414.

Form Number: IRS form 8846.

Type of Review: Extension.

Title: Credit for Employer Social Security and Medicare Taxes Paid on Certain Employee Tips.

Description: Employers in food or beverage establishments where tipping is customary can claim an income tax credit for the amount of social security and Medicare taxes paid (employer's share) on tips, other than tips used to meet the minimum wage requirement.

Respondents: Business or other for-profit.

Estimated Number of Respondents/Recordkeepers: 68,684.

Estimated Burden Hours Per Respondent/Recordkeeper:

Recordkeeping—8 hr., 7 min.

Learning about the law or the form—18 min.

Preparing and sending the form to the IRS—26 min.

Frequency of Response: Annually.

Estimated Total Reporting/Recordkeeping Burden: 609,228 hours.

OMB Number: 1545-1417.

Form Number: IRS form 8845.

Type of Review: Extension.

Title: Indian Employment Credit.

Description: Employers can claim a credit for hiring American Indians or their spouses to work within an Indian reservation. The credit is figured by multiplying by 20% the increase in wages and health insurance costs over the comparable amount paid or incurred during calendar year 1993.

Respondents: Business or other for-profit.

Estimated Number of Respondents/Recordkeepers: 1,246.

Estimated Burden Hours Per Respondent/Recordkeeper:

Recordkeeping—7 hr., 53 min.

Learning about the law or the form—1 hr., 40 min.

Preparing and sending the form to the IRS—1 hr., 53 min.

Frequency of Response: Annually.

Estimated Total Reporting/Recordkeeping Burden: 14,292 hours.

OMB Number: 1545-1500.

Form Number: IRS form 8850.

Type of Review: Extension.

Title: Pre-Screening Notice and Certification Request for the Work Opportunity and Welfare-to-Work Credits.

Description: A job applicant completes and signs, under penalties of perjury, the top portion of the form to indicate that he or she is a member of a targeted group. If the employer has a belief that the applicant is a member of a targeted group, the employer signs the other portion of the form under penalties of perjury and submits it to the state employment security agency (SESA) as part of a written request for certification.

Respondents: Business or other for-profit.

Estimated Number of Respondents/Recordkeepers: 400,000.

Estimated Burden Hours Per Respondent/Recordkeeper:

Recordkeeping—2 hr., 47 min.

Learning about the law or the form—37 min.

Preparing, and sending this form to the SESA—36 min.

Frequency of Response: On occasion.

Estimated Total Reporting/Recordkeeping Burden: 1,596,000 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental Reports, Management Officer.

[FR Doc. 02-29234 Filed 11-18-02; 8:45 am]

BILLING CODE 4830-01-P